DEPARTMENT OF HOUSING AND URBAN DEVELOPMENT

[Docket No. FR-4743-N-06]

Notice of Planned Closing of Portland, OR; Omaha, NE; Albuquerque, NM; and Birmingham, AL; Post-of-Duty Stations

AGENCY: Office of Inspector General, (HUD).

ACTION: Notice of planned closing of the Portland, Oregon; Omaha, Nebraska; Albuquerque, New Mexico; and Birmingham, Alabama post-of-duty stations.

SUMMARY: This notice advises the public that the HUD Office of Inspector General (OIG) plans to close its Portland, Oregon; Omaha, Nebraska; Albuquerque, New Mexico; and Birmingham, Alabama post-of-duty stations, and also provides a cost-benefit analyses of the impact of these closures.

FOR FURTHER INFORMATION CONTACT: Bryan Saddler, Counsel to the Inspector General, Room 8260, Department of Housing and Urban Development, 451 Seventh Street, SW., Washington, DC 20410-4500, 202-708-1613. (This is not a toll free number.) A telecommunications device for hearing- and speech-impaired persons (TTY) is available at 800-877-8339 (Federal Information Relay Services). (This is a toll-free number.)

SUPPLEMENTARY INFORMATION: Between 1997 and 2000 HUD/OIG established one and two person post-of-duty stations in Portland, Oregon; Omaha, Nebraska; and Albuquerque, New Mexico to give direct support to the Operation Safe Home (OSH) initiative to combat violent and drug related crime in the public and assisted housing in the city and nearby communities. Nationwide experience since the initiation of OSH in 1994 had proven that the best results/impact could be obtained when an HUD/OIG Special Agent was physically located in the target city. However, in accordance with the requirements of the Fiscal Year 2002 HUD Appropriations Act (Pub. L. 107-73, approved November 26, 2001), HUD/OIG terminated OSH and began re-deploying staff to focus on investigations involving single-family fraud and property flipping. This change eliminated the need to maintain separate post-of-duty stations in Portland, Oregon; Omaha, Nebraska; and Albuquerque, New Mexico, and gave HUD/OIG the opportunity to generate cost savings associated with discontinuing an additional office.

Regarding the Birmingham, Alabama post-of-duty station, it has existed since the early 1970s. During the 1990s, the office was staffed with a senior auditor and two staff auditors. The senior auditor and one staff auditor have left HUD/OIG, and the office is currently left with one staff auditor. Closing this office gives HUD/OIG the opportunity to generate cost savings associated with discontinuing an office, since the audits currently performed by the office can be performed as efficiently and effectively by staff in HUD/OIG's Atlanta Regional Office.

Section 7(p) of the Department of Housing and Urban Development Act (42 U.S.C. 3535(p)) provides that a plan for field reorganization, which may involve the closing of any field or regional office, of the Department of Housing and Urban Development may not take effect until 90 days after a cost-benefit analysis of the effect of the plan on the office in question is published in the Federal Register. The required cost-benefit analysis should include: (1) An estimate of cost savings anticipated; (2) an estimate of the additional cost which will result from the reorganization; (3) a discussion of the impact on the local economy; and (4) an estimate of the effect of the reorganization on the availability, accessibility, and quality of services provided for recipients of those services.

Legislative history pertaining to section 7(p) indicates that not all reorganizations are subject to the requirements of section 7(p). Congress stated that “[t]his amendment is not intended to [apply] to or restrict the internal operations or organization of the Department (such as the establishment of new or combination of existing organization units within a field office, the duty stationing of employees in various locations to provide on-site service, or the establishment or closing, based on workload, of small, informal offices such as valuation stations).” (See House Conference Report No. 95-1792, October 14, 1978 at 58.) The duty-stations in Portland, Oregon; Omaha, Nebraska; Albuquerque, New Mexico; and Birmingham, Alabama are single purpose duty stations, and are being closed based on workload rather than under a reorganization of HUD/OIG field offices. Although notice of the closing of a duty station is not subject to the requirement of section 7(p), as supported by legislative history, HUD/OIG nevertheless prepared a cost benefit analysis for its own use in determining whether to proceed with the closing. Through this notice, HUD/OIG advises the public of the closing of the Portland, Oregon; Omaha, Nebraska; Albuquerque, New Mexico; and Birmingham, Alabama duty stations and provides the cost benefit analysis of the impact of the closure.

Impact of the Closure of the Portland, Oregon; Omaha, Nebraska; Albuquerque, New Mexico; and Birmingham, Alabama; Post-of-Duty Stations: HUD/OIG considered the costs and benefits of closing the Portland, Oregon; Omaha, Nebraska; Albuquerque, New Mexico; and Birmingham, Alabama post-of-duty stations, and is publishing its cost-benefit analyses with this notice. In summary, HUD/OIG has determined that the closures will result in a cost savings, and, as a result of the size and limited function of the office, will cause no appreciable impact on the provision of authorized investigative services/activities in the area.

Cost-Benefit Analysis

A. Cost Savings: The Portland, Oregon post-of-duty station currently costs approximately $2866.82 per month for space rental. Additional associated overhead expenses (e.g., telephone service) are incurred to operate the post-of-duty station. Thus, closing the office will result in annual savings of at least $34,401.00. In addition, by closing the office HUD/OIG will not be required to incur additional costs associated with current plans to install high-speed computer access lines to and on the premises.

The Omaha, Nebraska, post-of-duty station currently costs approximately $225 per month for space rental. Additional associated overhead expenses are incurred to operate the post-of-duty station. In addition, the agent is required to travel to the Regional Office in Kansas City, Missouri on a quarter-yearly basis for required agent qualification update training. Thus, closing the office will result in annual savings of at least $4,000. In addition, by closing the office HUD/OIG will not be required to incur additional costs associated with current plans to install high-speed computer access lines to and on the premises.

The Albuquerque, New Mexico post-of-duty station currently costs approximately $1288.08 per month for space rental. Additional associated overhead expenses are incurred to operate the post-of-duty station. Thus, closing the office will result in annual savings of at least $15,457.00. In addition, by closing the office HUD/OIG will not be required to incur additional costs associated with current plans to install high-speed computer access lines to and on the premises.

The Birmingham, Alabama, post-of-duty station currently costs approximately $4,034 per month for space rental. Additional associated overhead expenses are incurred to operate the post-of-duty station. Thus, closing the office will result in annual savings of at least $48,000.

B. Additional Costs: With respect to the Portland, Oregon and Albuquerque, New Mexico post-of-duty stations there will be no offsetting costs. HUD/OIG currently has no staff in either office. Relocation costs associated with personnel in the Omaha, Nebraska and Birmingham, Alabama post-of-duty stations are estimated to total no more than $90,000.

C. Impact on Local Economy: No appreciable impact on the local economy of Portland, Oregon; Omaha, Nebraska; Albuquerque, New Mexico; and Birmingham, Alabama is anticipated. The post-of-duty stations are co-located with office space leased by other federal agencies, and it is anticipated that the space can easily be re-leased to other tenants.

D. Effect on Availability, Accessibility and Quality of Services Provided to Recipients of Those Services: The establishment of the Portland, Oregon; Omaha, Nebraska; and Albuquerque, New Mexico post-of-duty stations were based entirely on the needs of the HUD/OIG to have Special Agents in closer proximity to OSH activities conducted in the Portland, Omaha and Albuquerque areas. These activities have been terminated. Further, as was the case prior to the establishment of these offices, special agents assigned to other HUD/OIG offices can cost-effectively address fraud investigations in the Portland, Omaha and Albuquerque areas.

Similarly, the establishment of the Birmingham, Alabama post-of-duty station was based on the needs of the HUD/OIG to have auditors in closer proximity to audit activities conducted in the Birmingham area. However, HUD/OIG currently believes that auditors assigned to the Atlanta Regional Office can cost-effectively address the limited number of audits in the Birmingham area.

For the reasons stated in this notice, HUD/OIG intends to proceed to close its Portland, Oregon; Albuquerque, New Mexico; Omaha, Nebraska; and Birmingham, Alabama post-of-duty stations at the expiration of the 90-day period from the date of publication of this notice.

Dated: October 20, 2004.
Kenneth M. Donohue, Sr.,
Inspector General.

[FR Doc. 04-23999 Filed 10-26-04; 8:45 am]

BILLING CODE 4210-78-P